DEPARTMENT OF AGRICULTURE

Agricultural Marketing Service

7 CFR Parts 996, 997, 998, and 999

[Docket No. FV02-996-1 IFR]

Establishment of Minimum Quality and Handling Standards for Domestic and Imported Peanuts Marketed in the United States and Termination of the Peanut Marketing Agreement and Associated Rules and Regulations

Correction

In rule document 02-22700 beginning on page 57129 in the issue of Monday, September 9, 2002, make the following correction:

On page 57142, in the table, under the column titled “Type and grade category”, in the third entry from the top, the table is corrected in part to read as set forth below.

Minimum Quality Standards: Peanuts for Human Consumption—Whole Kernels and Splits: Maximum Limitations
Type and grade category | Unshelled peanuts and damaged kernels (percent) | Unshelled peanuts, damaged kernels and minor defects (percent) | Fall through: Sound split and broken kernels | Fall through: Sound whole kernels | Fall through: Total | Foreign materials (percent) | Moisture (percent)
Excluding lots of “splits”
Virginia with splits (not more than 15% sound splits) | 1.50 | 2.50 | 3.00%; 17/64 inch round screen | 3.00%; 15/64 × 1 inch slot screen | 4.00% Both screens | .20 | 9.00

[FR Doc. C2-22700 Filed 10-10-02; 8:45 am]

BILLING CODE 1505-01-D

ENVIRONMENTAL PROTECTION AGENCY

40 CFR Part 180

[OPP-2002-0235; FRL-7198-4]

Clopyralid; Pesticide Tolerance

Correction

In rule document 02-24232 beginning on page 60152, in the issue of Wednesday, September 25, 2002, make the following correction:

On page 60154, in Table 1, in the second and third entries from the bottom, the table is corrected in part to read as set forth below.

Table 1.—Subchronic, Chronic, and Other Toxicity of Clopyralid
Guideline No. | Study Type | Results
870.5450 | Dominant lethal assay in rats. | No evidence of treatment related resorptions up to 400 mg/kg/day for 5 days.
870.5550 | In vitro unscheduled DNA synthesis assay | There was no evidence of unscheduled DNA synthesis in initial or supplementary assays.

[FR Doc. C2-24232 Filed 10-10-02; 8:45 am]

BILLING CODE 1505-01-D